DEPARTMENT OF COMMERCE

National Oceanic and Atmospheric Administration

[I.D. 110201B]

Caribbean Fishery Management Council; Public Meetings

AGENCY: National Marine Fisheries Service (NMFS), National Oceanic and Atmospheric Administration (NOAA), Commerce.

ACTION: Notice of public meetings.

SUMMARY: The Caribbean Fishery Management Council (Council) will hold meetings.

DATES: The meetings will be held on November 28-29, 2001. The Council will convene on Wednesday, November 28, 2001, from 8:30 a.m. to 5:30 p.m. through Thursday, November 29, 2001, from 9 a.m. to 5 p.m., approximately.

ADDRESSES: The meetings will be held at the Wyndham Sugar Bay Beach Club and Resort, St. Thomas, USVI.

FOR FURTHER INFORMATION CONTACT: Caribbean Fishery Management Council, 268 Muñoz Rivera Avenue, Suite 1108, San Juan, Puerto Rico 00918-2577; telephone: (787) 766-5926.

SUPPLEMENTARY INFORMATION: The Council will hold its 106th regular public meeting to discuss the items contained in the following agenda:

Call to Order

Adoption of Agenda

Consideration of 105th Council Meeting Summary Minutes

Executive Director’s Report

Queen Conch Fisheries/Fishery Management Plan (QCFMP)

-Honduras Fisheries - Mr. Luis Morales

-U.S. Caribbean Data Update - Mrs. Monica Valle

-QCFMP Amendment 2/Supplementary Environmental Impact

Statement/UPDATE - E.V.E. Joy & J. Weaver

Reeffish Fisheries

-U.S. Caribbean Data Update - Dr. Nancie Cummings

-Marine Conservation District Update - Dr. Rick Nemeth

-Draft Amendment 4 to the Reeffish FMP

-Permit System

-Puerto Rico - R. Martinez

-U.S. Virgin Islands - B. Kojis

-Federal Government - B. Sutter

Administrative Committee Meeting

Dolphin/Wahoo FMP

-Council Consideration of Comments Received on Draft Enviromental Impact Statement

-Final Action - Submission to the Secretary

Essential Fish Habitat Option Paper - MRAG Americas

Enforcement

-Federal Government

-Puerto Rico

-U.S. Virgin Islands

Recommendations by the Administrative Committee

Scientific and Statistical Committee (SSC)/Advisory Panel (AP)/Habitat AP Membership

Meetings Attended by Council Members and Staff

-International Commission for the Conservation of Atlantic Tunas (ICCAT) Committee Meeting -Gulf and Caribbean Fishery Institute (GCFI) Meeting -Marine Fisheries Advisory Committee (MAFAC) Meeting -Western Central Atlantic Fishery Commission (WECAFC) Meeting

Other Business

Next Council Meeting

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico 00918-2577; telephone: (787) 766-5926, at least 5 days prior to the meeting date.

Dated: November 2, 2001.
Richard W. Surdi,
Acting Director, Office of Sustainable Fisheries, National Marine Fisheries Service.

[FR Doc. 01-28237 Filed 11-8-01; 8:45 am]

BILLING CODE 3510-22-S